ENVIRONMENTAL PROTECTION AGENCY

[EPA-HQ-OECA-2014-0026; FRL-9985-57-OEI]

Information Collection Request Submitted to OMB for Review and Approval; Comment Request; NSPS for Metal Coil Surface Coating (Renewal)

AGENCY: Environmental Protection Agency (EPA).

ACTION: Notice.

SUMMARY: The Environmental Protection Agency (EPA) has submitted an information collection request (ICR), NSPS for Metal Coil Surface Coating (EPA ICR No. 0660.13, OMB Control No. 2060-0107), to the Office of Management and Budget (OMB) for review and approval in accordance with the Paperwork Reduction Act. This is a proposed extension of the ICR, which is currently approved through November 30, 2018. Public comments were previously requested, via the Federal Register, on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before November 30, 2018.

ADDRESSES: Submit your comments, referencing Docket ID Number EPA-HQ-OECA-2014-0026, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for Metal Coil Surface Coating (40 CFR part 60, subpart TT) apply to the following surface coating lines in the metal coil surface coating industry: Each prime coat operation; each finish coat operation; and each prime and finish coat operation cured simultaneously, where the finish coat is applied wet-on-wet over the prime coat. In general, all NSPS standards require initial notification reports, performance tests, and periodic reports by the owners/operators of the affected facilities. They are also required to maintain records of the occurrence and duration of any startup, shutdown, or malfunction in the operation of an affected facility, or any period during which the monitoring system is inoperative. These notifications, reports, and records are essential in determining compliance with 40 CFR part 60, subpart TT.

Form Numbers: None.

Respondents/affected entities: Metal coil surface coating facilities.

Respondent's obligation to respond: Mandatory (40 CFR part 60, subpart TT).

Estimated number of respondents: 158 (total).

Frequency of response: Initially, quarterly, occasionally, semiannually, and annually.

Total estimated burden: 16,200 hours (per year). Burden is defined at 5 CFR 1320.3(b).

Total estimated cost: $1,950,000 (per year), which includes $170,000 in annualized capital/startup and/or operation & maintenance costs.

Changes in the Estimates: There is an increase in the respondent burden currently identified in the OMB Inventory of Approved Burdens. The increase is attributed to several adjustments: (1) This renewal allows time for each source to re-familiarize themselves with the rule requirements each year; (2) this renewal adjusted the frequency of recordkeeping requirements to match the requirements in the rule; and (3) this renewal assumed 10 percent of the sources would have excess emissions and would have to report quarterly instead of semi-annually.

There is a decrease in the capital and O&M costs currently identified in the OMB Inventory of Approved Burdens. The decrease is attributed to an adjustment. The previous renewal had estimated O&M costs related to temperature monitoring for all sources; however, only 80 percent of the sources are anticipated to comply with the rule using incineration.

Courtney Kerwin,
Director, Regulatory Support Division.

[FR Doc. 2018-23753 Filed 10-30-18; 8:45 am]

BILLING CODE 6560-50-P